DEPARTMENT OF AGRICULTURE

National Institute of Food and Agriculture

Request for Public Engagement in the Interagency Special Report `2nd State of the Carbon Cycle Report (SOCCR-2)'

AGENCY: National Institute of Food and Agriculture (NIFA) on behalf of the United States Global Change Research Program (USGCRP), Department of Agriculture.

ACTION: Request for Public Comments on a Draft Report. Prospectus, Technical Input, and Nominations for Technical Contributors.

SUMMARY: The U.S. Carbon Cycle Science Program and the Carbon Cycle Interagency Working Group (CCIWG), under the auspices of the U.S. Global Change Research Program (USGCRP), are initiating an Interagency Special Report entitled the 2nd State of the Carbon Cycle Report (referred to as “SOCCR-2” or “the Report” throughout this notice). The United States Department of Agriculture (USDA) has agreed to be lead agency for this report as it is relevant to USDA and USDA has experience in producing a similar highly successful report of Climate Change and Food Security. The focus of SOCCR-2 will be on U.S. and North American carbon cycle processes, stocks, and flows in the context of and interactions with global scale budgets and climate change impacts in managed and unmanaged systems. Carbon stocks and fluxes in soils, water (including oceans), vegetation, aquatic-terrestrial interfaces (e.g., coastal, estuaries, wetlands), human settlements, agriculture and forestry are included. The Report will consider relevant carbon management science perspectives and science-based tools for supporting and informing decisions, as addressed in and related to the U.S. Carbon Cycle Science Plan (2011), and other documents such as the USGCRP Strategic Plan (2012) and the White House Climate Action Plan (2013). The status of, and emerging opportunities for, improving measurements, observations and projections of stocks and fluxes in the carbon cycle, including uncertainty identification, will be part of the Report. SOCCR-2 will be a product of the USGCRP, organized and led by the Agency members of the CCIWG. This request for public engagement presents opportunities to (1) submit comments on the Draft Report Prospectus, (2) submit scientific/technical information to inform the assessment, and (3) nominate technical contributors.

DATES: Written comments on the Draft Prospectus, technical information, and nominations for technical contributors must be received by 5:00 p.m., ET on March 14, 2016.

ADDRESSES: Comments on the Draft Prospectus, technical information, and nominations for technical contributors must be submitted electronically via https://www.globalchange.gov/notices.

Instructions: Response to this notice is voluntary. Respondents need not reply to all components. Responses to this notice may be used by the government for program planning on a non-attribution basis. NIFA therefore requests that no business proprietary information or copyrighted information be submitted in response to this notice. Please note that the U.S. Government will not pay for response preparation, or for the use of any information contained in the response.

FOR FURTHER INFORMATION CONTACT: USGCRP Contact: Dr. Gyami Shrestha; telephone 202-223-6262; or email: CarbonReport@usgcrp.gov.

NIFA Contact: Dr. Nancy Cavallaro; telephone 202-401-5176; or email: ncavallaro@nifa.usda.gov.

SUPPLEMENTARY INFORMATION:

I. Request for Comments on the Draft Prospectus

A. How To Submit Comments on the Draft Prospectus

The Draft Prospectus describes the proposed plans for scoping, drafting, reviewing, producing, and disseminating SOCCR-2. Comments are specifically sought on the Draft Report outline (including the draft table of contents), proposed topics, and process as outlined in the Draft Prospectus. The Draft Prospectus and instructions to submit comments can be found at http://www.globalchange.gov/notices. Section I(B) below provides a brief summary of the prospectus.

B. Summary of the Draft Prospectus for the Interagency Special Report `2nd State of the Carbon Cycle Report (SOCCR-2)'

1. Overview

The SOCCR-2 report is a synthesis and assessment focusing on U.S. and North American carbon cycle processes, stocks, and flows in the context of and interactions with global scale budgets and climate change impacts in managed and unmanaged systems.

2. Proposed Focus Areas and Table of Contents

Current status and near-term projections for each topic will be included. If and where possible, modeling and multi-model syntheses of the carbon cycle will be included. As appropriate, each chapter will address cross-cutting themes such as: Land use change, fluxes, feedbacks, historical context, indicators and trends, societal impacts, North American and global scales (based on the 2014 National Climate Assessment regions), carbon management, impacts of decisions, and research needs. The expanded draft table of contents can be found on http://www.globalchange.gov/notices.

Preface—The Preface will explain the importance of the carbon cycle to climate, the scope and rationale for SOCCR-2, and key developments since SOCCR-1.

Chapter 1: Global carbon cycle overview—Chapter 1 will contain an overview of major elements of the coupled global carbon cycle (i.e., carbon dioxide and methane) as well as discuss key interactions with climate forcing and feedback components from a global perspective.

Chapter 2: Carbon cycle at scales—Chapter 2 will provide an assessment of the North American carbon cycle (scaled down from the global system in chapter 1), including updated regional, and local perspectives on key carbon stocks and flows.

Chapter 3: Carbon in natural and anthropogenic systems—major stocks, flows, uncertainties, broader social drivers, carbon decisions—Chapter 3 will provide an assessment of key carbon stocks (e.g., soils, aquatic systems, vegetation, urban, livestock, oceans, etc.) and the flows within and between these pools, including key uncertainties and social drivers. Example Focus Areas that may be incorporated in the above include urban carbon, Arctic carbon, livestock and wildlife.

Chapter 4: Interactions/disturbance: Impacts to the carbon cycle—Chapter 4 will focus on the role of disturbances, such as fire, ocean acidification, pathogens, land use change, etc. on the carbon cycle.

Chapter 5: Carbon cycle information, management practices, tools and needs at various scales—Chapter 5 will assess the role of recent carbon management practices and highlight the current state of carbon data management, monitoring systems, tools, and carbon relevant modeling scenarios.

Chapter 6: Synthesis, conclusions, gaps in knowledge, and (near) future outlook—Chapter 6 will provide an overarching synthesis of the current state of the carbon cycle while identifying key knowledge gaps/opportunities and a near-term outlook on the North American Carbon cycle.

C. Process

1. Audience and Communications

The audience includes scientists, decision-makers in the public and private sectors and the general interested community across the U.S., extending to North American and global regions. The report may ultimately be used to inform policies but will not prescribe or recommend them.

2. Technical Contributors and Required Expertise

The SOCCR-2 Report will be a federal interagency report. Technical contributors may be federal employees, academic scientists, private and nonprofit sector representatives, and others as appropriate and in alignment with federal requirements. The technical contributors will be selected based on their scientific expertise; demonstrated accomplishments; academic interests and knowledge in the thematic areas specified in the draft outline; time availability; and technical capability to work in this type of broad interdisciplinary and cross-cutting scientific assessment setting. The main roles and responsibilities of the technical contributors may include compiling the necessary background literature; synthesizing, analyzing and interpreting the existing science; and contributing intellectual and technical input. The process for nominating technical contributors is provided in Section III below.

3. Agency Roles

A Federal Steering Committee of the USGCRP's SOCCR-2 has been established to provide guidance and coordination to the report authors and staff. The Committee members represent CCIWG member departments and agencies including National Oceanic and Atmospheric Administration (NOAA), National Aeronautics and Space Administration (NASA), Department of Energy (DOE), United States Department of Agriculture (USDA), U.S. Geological Survey (USGS) and Environmental Protection Agency (EPA).

4. Information Quality and Peer Review

The USGCRP's 2nd State of the Carbon Cycle Report will use referenced materials derived primarily from the existing, peer-reviewed scientific literature and consistent with guidance regarding the use of other literature. This report will follow the USDA Information Quality Guidelines and administrative processes (http://nifa.usda.gov/resource/usda-information-quality) including the Office of Management and Budget (OMB) federal information quality, transparency, and accessibility guidelines appropriate for a Highly Influential Scientific Assessment (HISA) (http://www.cio.noaa.gov/services_programs/pdfs/OMB_Peer_Review_Bulletin_m05-03.pdf). The report will undergo peer review by the National Academy of Sciences, public review, and final interagency clearance.

5. Process for Public Engagement

The written comments on the Draft Prospectus, technical information, and nominations for technical contributors called for in this notice are the first opportunities for public participation in the SOCCR-2 report process. Federal Steering committee will provide several opportunities for public engagement with the scientific community throughout the report scoping, planning and writing process via special presentations, sessions, town hall meetings and side-events at national and international scientific conferences. A public review period for the Draft SOCCR-2 will also be announced via a Federal Register notice, after its completion. Updates will be provided on https://www.carboncyclescience.us/ as available.

6. Proposed Timing

SOCCR-2, with a likely release in 2017, is designed to inform the next quadrennial National Climate Assessment (due in 2018).

II. Call for Relevant Scientific Information To Inform the Special Report

Interested parties are invited to assist in contributing, collecting and refining the scientific information base for this special report. To do so, parties are asked to submit recent, relevant scientific and/or technical research studies including observed, modeled and/or projected carbon cycle science information that have been peer reviewed and published or accepted for publication in scientific journals and/or government reports. All scientific literature submitted in response to this call for information must be received by 5:00 p.m., ET on March 14, 2016.

Submissions must be uploaded electronically via the link provided on http://www.globalchange.gov/notices.

III. Call for Nominations for Technical Contributors

This notice seeks nominations for technical contributors to SOCCR-2 with pertinent subject matter expertise and scientific background. Potential technical contributors should be accomplished scholarly writers and have demonstrated scientific and technical expertise and academic proficiency in at least one of the carbon cycle science topics outlined in the prospectus (available via www.globalchange.gov/notices), including the human dimensions of carbon cycle sciences. Submissions must demonstrate that nominees have demonstrated technical backgrounds, such that they could contribute to the development of a robust scientific, technical assessment as subject matter experts in one or more of the topics listed under Section 2 above and in the Draft Prospectus.

Responses to this request must be received by 5:00 p.m., ET on March 14, 2016. Please follow instructions on www.globalchange.gov/notices. Interested persons may nominate themselves or third parties, and may nominate more than one person. Each nomination must include: (1) The nominee's full name, title, institutional affiliation, and contact information; (2) the nominee's area(s) of expertise; (3) a short description of his/her qualifications relative to contributing to SOCCR-2; and (4) a current resume (maximum length four [4] pages). Nominations will be reviewed, and nominees may be invited to participate as technical contributors to SOCCR-2.

Done at Washington, DC, this 8th day of February, 2016.
Sonny Ramaswamy,
Director, National Institute of Food and Agriculture.

[FR Doc. 2016-02927 Filed 2-11-16; 8:45 am]

BILLING CODE 3410-22-P